PEACE CORPS

Proposed Collection Renewal

ACTION: 60-day notice and request for comments.

SUMMARY: The Peace Corps will be submitting the following three information collection requests to the Office of Management and Budget (OMB) for extension, without change, of currently approved information collections. In compliance with the Paperwork Reduction Act of 1995 (44 U.S.C. chapter 35), the Peace Corps invites the general public to comment on the renewal of three information collections: World Wise Schools Conference Online Registration Form (OMB 0420-0514); Speakers Match: Online Request for a Speaker Form (OMB 0420-0539); and Correspondence Match Educator Online Enrollment Form: Educator Sign Up Form (OMB 0420-0540). This process is conducted in accordance with 5 CFR 1320.10.

DATES: Comments must be submitted on or before August 27, 2010.

ADDRESSES: Comments should be addressed to Marjorie Anctil, Director of World Wise Schools, Peace Corps, 1111 20th Street, NW., Washington, DC 20526. Marjorie Anctil can be contacted by telephone at 202-692-1461 or e-mail at manctil@peacecorps.gov. E-mail comments must be made in text and not in attachments.

FOR FURTHER INFORMATION CONTACT: Marjorie Anctil, at Peace Corps address above.

SUPPLEMENTARY INFORMATION: Proposal to renew the following currently approved collections of information:

1. Title: World Wise Schools Conference—Online Registration Form.

OMB Control Number: 0420-0514.

Respondents: Educators and employees of governmental and nongovernmental organizations interested in promoting global education in the classroom.

Estimated annual number of respondents: 300.

Estimated average time to respond: 10 minutes.

Frequency of response: Annually.

Estimated total annual burden hours:50 hours.

General description of collection: The information collected is used to officially register attendees to the annual World Wise Schools Conference. The information is used as a record of attendance.

2. Title: Speakers Match: Online Request for a Speaker Form.

OMB Control Number: 0420-0539.

Type of Review: Regular—extension, without change, currently approved collection.

Respondents: Educators interested in promoting global education in the classroom.

Estimated annual number of responses:300.

Estimated average time to respond:10 minutes.

Frequency of response: Annually.

Estimated annual burden hours: 50 hours.

General description of collection: The information collected is used to make suitable matches between the educators and returned Peace Corps Volunteers for the Speakers Match program.

3. Title: Correspondence Match Educator Online Enrollment Form: Educator Sign Up Form.

OMB Control Number: 0420-0540

Respondents: Educators interested in promoting global education in the classroom.

Estimated annual number of responses:10,000.

Estimated average time to respond: 10 minutes.

Frequency of response: Annually.

Estimated annual burden hours: 1667 hours.

General description of collection: The information collected is used to make suitable matches between the educators and currently serving Peace Corps Volunteers.

Request for Comment: Peace Corps invites comments on whether the proposed collections of information are necessary for proper performance of the functions of the Peace Corps and the Paul D. Coverdell World Wise Schools, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on June 18, 2010.
Earl W. Yates,
Associate Director for Management.

[FR Doc. 2010-15584 Filed 6-25-10; 8:45 am]

BILLING CODE 6051-01-P